DEPARTMENT OF JUSTICE

Notice of Lodging Proposed Consent Decree

In accordance with Departmental Policy, 28 CFR 50.7, notice is hereby given that a proposed Consent Decree in ABB Inc. v. United States, Civil Action No. 3:13-cv-01265-CSH, was lodged with the United States District Court for the District of Connecticut on December 1, 2014.

This proposed Consent Decree concerns a complaint filed by ABB Inc. against the United States, pursuant to the Comprehensive Environmental Response, Compensation, and Liability Act, 42 U.S.C. 9601-75, in connection with alleged releases of or threatened releases of hazardous substances at a facility located at 2000 Day Hill Road, in Windsor, Connecticut, owned by Combustion Engineering. The proposed Consent Decree resolves these allegations, as well as potential claims by the United States Army Corps of Engineers that could have been brought against ABB if the matter had not settled. The proposed Consent Decree provides for the United States to pay ABB $31,044,520 as soon as reasonably practicable after the Effective Date of the Consent Decree. It also provides for ABB to pay the United States $3,148,322 within seventy five (75) days after the Effective Date of the Consent Decree.

The Department of Justice will accept written comments relating to this proposed Consent Decree for thirty (30) days from the date of publication of this Notice. Please address comments to Kate Bowers, Trial Attorney, United States Department of Justice, Environment and Natural Resources Division, Environmental Defense Section, Post Office Box 7611, Washington, DC 20044 and refer to ABB Inc. v. United States, DJ #90-11-6-19963.

The proposed Consent Decree may be examined at the Clerk's Office, United States District Court for the District of Connecticut, 450 Main Street, Hartford, CT 06103. In addition, the proposed Consent Decree may be examined electronically at http://www.justice.gov/enrd/Consent_Decrees.html.

Cherie L. Rogers,
Assistant Section Chief, Environmental Defense Section, Environment and Natural Resources Division.

[FR Doc. 2014-28735 Filed 12-8-14; 8:45 am]

BILLING CODE 4410-15-P